DEPARTMENT OF COMMERCE

Patent and Trademark Office

[Docket No.: PTO-P-2008-0063]

Extension of Time for Comments on Deferred Examination for Patent Applications

AGENCY: United States Patent and Trademark Office, Commerce.

ACTION: Request for comments; extension of comment period.

SUMMARY: The United States Patent and Trademark Office (USPTO) conducted a roundtable to obtain public input on deferral of examination for patent applications, and invited the public to submit written comments on issues raised at the roundtable or on any issue pertaining to deferral of examination.

Comment Deadline Date: The deadline for receipt of written comments is May 29, 2009.

ADDRESSES: Written comments should be sent by electronic mail message over the Internet addressed to AC6comments@uspto.gov. Comments may also be submitted by mail addressed to: Mail Stop Comments—Patents, Commissioner for Patents, P.O. Box 1450, Alexandria, VA 22313-1450, marked to the attention of Robert W. Bahr. Although comments may be submitted by mail, the USPTO prefers to receive comments via the Internet.

The written comments and list of the roundtable participants and their associations will be available for public inspection at the Office of the Commissioner for Patents, located in Madison East, Tenth Floor, 600 Dulany Street, Alexandria, Virginia, and will be available via the USPTO Internet Web site (address: http://www.uspto.gov). Because comments will be made available for public inspection, information that is not desired to be made public, such as an address or phone number, should not be included in the comments.

FOR FURTHER INFORMATION CONTACT: Robert W. Bahr, Senior Patent Counsel, Office of the Deputy Commissioner for Patent Examination Policy, by telephone at (571) 272-8800, by electronic mail message at robert.bahr@uspto.gov, or by mail addressed to: Mail Stop Comments—Patents, Commissioner for Patents, P.O. Box 1450, Alexandria, VA 22313-1450, marked to the attention of Robert W. Bahr.

SUPPLEMENTARY INFORMATION: The USPTO conducted a roundtable to determine whether or not there is support in the patent community and/or the public sector for the adoption of some type of deferral of examination. See Request for Comments and Notice of Roundtable on Deferred Examination for Patent Applications, 74 FR 4946 (Jan. 28, 2009), 1339 Off. Gaz. Pat. Office 153 (Feb. 24, 2009) (notice). The USPTO also invited written comments by any member of the public on the issues raised at the roundtable, or on any issue pertaining to deferral of examination. See Request for Comments and Notice of Roundtable on Deferred Examination for Patent Applications, 74 FR at 4947, 1339 Off. Gaz. Pat. Office at 154. The USPTO Webcast the roundtable and a video recording of the roundtable is available on the USPTO's Internet Web site. The USPTO is extending the comment period to provide interested members of the public with an additional opportunity to view the Webcast before submitting comments to the USPTO.

Dated: March 3, 2009.
John J. Doll,
Acting Under Secretary of Commerce for Intellectual Property and Acting Director of the United States Patent and Trademark Office.

[FR Doc. E9-4897 Filed 3-6-09; 8:45 am]

BILLING CODE 3510-16-P